DEPARTMENT OF AGRICULTURE

Forest Service

Motorized Trail Analysis and Parking Area Development, Medicine Bow-Routt National Forests, Jackson County, Colorado

AGENCY: USDA, Forest Service.

ACTION: Notice of intent to prepare an Environmental Impact Statement.

SUMMARY: The Forest Service will prepare and Environmental Impact Statement (EIS) to assess and disclose the environmental effects of determining the future status of Forest Development Trail (FDT) 1135 (Arapaho Ridge Trail) and creating trailhead parking areas at both ends of the trail. FDT 1135 is located on the Routt National Forest in Jackson County, Colorado. Trailhead parking areas would be rough surfaced, approximately 2 acres in size, and would be built to accommodate horse trailers and other recreational parking. Informational signing, Interpretive Education bulletin boards, and other area improvements may also be installed in the future. Installation of these amenities would be based on public need and the Forest Service budget.

The purpose and need for the proposal is to determine whether or not motorized use is appropriate on FDT 1135. Currently, the area around and including FDT 1135 is in a non-motorized Forest Plan Management Area prescription. The analysis will determine the appropriate use of the trail, if user-conflicts or resource impacts are occurring as a result of existing motorized use of the trail, and the types of amenities and parking areas needed at each trailhead.

The Forest Service is giving notice that it is beginning a full environmental analysis and decision-making process for this proposal so that potentially interested or affected individuals, agencies, or organizations can participate in the process and contribute to the final decision. All comments and suggestions on the scope of the analysis and decision-making process are welcome.

DATES: Public scoping to determine the future status of FDT 1135 and to create trailhead parking areas at both ends of the trail was initiated on January 4, 2000. Over 500 comment letters were received. All comments received from the January 4, 2000 scoping effort will be combined with comments received as a result of this Notice of Intent. Comments from both scoping efforts will be reviewed to identify potential issues for this analysis. Since the previously received comments will be incorporated into this analysis, individuals who responded to the January 4, 2000 scoping request need to provide comments at this time only if they wish to provide additional information to what they previously submitted. Written comments and suggestions should be postmarked by August 21, 2000 to receive consideration. The estimated time for filing the draft EIS is October 2000 followed by the final decision in February 2001.

ADDRESSES: Send written comments to Charles T. Oliver, District Ranger, Parks Ranger District, P.O. Box 158, Walden, Colorado, 80480.

FOR FURTHER INFORMATION CONTACT: Melissa Martin, Project Coordinator, Medicine Bow-Routt National Forests, 2468 Jackson Street, Laramie, Wyoming, 82070. Telephone: (307) 745-2371.

SUPPLEMENTARY INFORMATION: Prior to revision of the 1997 Routt National Forest Plan, FDT 1135 was located entirely within a Forest Plan Management Area that allowed motorized travel on designated routes. Consequently, the trail was managed to accommodate motorcycle use, as well as other non-motorized uses. Following revision of the Forest Plan, however, most of the area through which FDT 1135 runs was changed to a non-motorized Management Area prescription. As a result of this change, the middle portion (roughly 9 miles) of the trail is now located in Forest Plan Management Area 1.32, Backcountry Recreation, Non-motorized with Limited Motorized Use in Winter, whereas both trailheads and roughly 3 miles of the trail are located in Management Area 5.13, Forest Products. Allowing motorized travel to continue on portions of the trail currently falling within the non-motorized prescription conflicts with the 1997 Routt National Forest Plan.

Proposed Action: The Forest Service is proposing to close FDT 1135 to motorized use; all other forms of non-motorized recreation activities would continue to be allowed. The Forest Service would also create trailhead parking areas at both ends of the trail. The parking areas would be rough surfaced, approximately 2 acres in size, and would be built to accommodate horse trailers and other recreational parking. Informational signing, Interpretive Education bulletin boards, and other area improvements may also be installed in the future. Installation of these amenities would be based on public need and the Forest Service budget.

Preliminary Issues: The following preliminary issues were identified as a result of the January 4, 2000 scoping effort:

• Implement the Revised Routt Forest Plan by closing FDT 1135 to motorized use.

• Amend the Revised Routt Forest Plan to allow continued motorized use.

• Reduce the size of the proposed parking areas.

• Construct physical barriers to prevent motorized use of the trail.

• User conflicts due to use of motorized vehicles in back country settings.

• User conflicts due to potentially reduced motorized trail opportunities.

• Resource impacts from motorized use of FDT 1135.

• Impacts to roadless areas from motorized use of FDT 1135.

Preliminary Alternatives: The following preliminary alternatives were developed in response to the issues identified above:

(1) No Action: The Forest Service would allow continued motorized use of the trail and would not amend the Routt National Forest Plan. Trailhead parking areas would not be created, and informational signing and Interpretive Education bulletin boards would not be installed.

(2) Proposed Action: Please refer to the description above.

(3) Amend the Routt National Forest Plan to allow continued motorized use of FDT 1135: The Forest Service would amend the Routt National Forest Plan to create a motorized Management Area corridor around FDT 1135. This action would change a linear portion of the currently non-motorized prescription to one that accommodates motorized uses in back country settings for roughly 100 feet on either side of FDT 1135. The Management Area change would affect roughly 9 miles of the trail. All other activities associated with this alternative would be identical to the proposed action.

Selection of this alternative would likely result in a significant amendment to the Routt National Forest Plan.

Decisions to be Made: The Responsible Official must decide which alternative of those analyzed in the draft EIS to select for implementation. Based on the decision that is made, he will also decide what mitigation measures and monitoring requirements will be required.

Reviewer Obligations: The comment period on the draft EIS will be 45 days from the date the Environmental Protection Agency publishes the notice of availability in the Federal Register. The comment period is expected to end August 21, 2000.

Release of Names: Comments received in response to this solicitation, including names and addresses of those who comment, will be considered part of the public record on this Proposed Action and will be available for public inspection. Comments submitted anonymously will be accepted and considered; however, those who submit anonymous comments will not have standing to appeal the subsequent decision under 36 CFR parts 215 or 217. Additionally, pursuant to 7 CFR 1.27 (d), any person may request the agency to withhold a submission from the public record by showing how the Freedom of Information Act (FOLA) permits such confidentiality. Persons requesting such confidentiality should be aware that, under the FOLA, confidentiality may be granted in only very limited circumstances, such as to protect trade secrets. The Forest Service will inform the requester of the agency's decision regarding the request for confidentiality, and where the request is denied, the agency will return the submission and notify the requester that the comments may be resubmitted with or without name and address within ten (10) days.

Responsible Official: Charles T. Oliver, District Ranger; Parks Ranger District; Medicine Bow-Routt National Forests; PO Box 158; Walden, CO 80480.

As the Responsible Official, I will decide which, if any of the alternatives to be described in the draft Environmental Impact Statement will be implemented. I will document the decision and reasons for my decision in a Record of Decision.

Dated: June 26, 2000.
Charles T. Oliver,
District Ranger.

[FR Doc. 00-18127 Filed 7-24-00; 8:45 am]

BILLING CODE 3410-6M-M